DEPARTMENT OF HOMELAND SECURITY

Coast Guard

33 CFR Part 117

[CGD 11-05-035]

Drawbridge Operation Regulations; Sacramento River, Isleton, CA

AGENCY: Coast Guard, DHS.

ACTION: Notice of temporary deviation from regulations.

SUMMARY: The Commander, Eleventh Coast Guard District, has issued a temporary deviation from the regulation governing the operation of the CA-160 Highway Drawbridge across the Sacramento River, mile 18.7, at Isleton, CA. This deviation allows Caltrans to perform single leaf operation of the drawbridge with a 12-hour advance notification to the Rio Vista drawbridge. The temporary deviation is necessary to repair essential operating machinery.

DATES: This deviation is effective from 7 a.m. January 9, 2006 through 6 p.m. on February 17, 2006.

ADDRESSES: Materials referred to in this document are available for inspection or copying at Commander (dpw), Eleventh Coast Guard District, Building 50-3, Coast Guard Island, Alameda, CA 94501-5100, between 8 a.m. and 4 p.m., Monday through Friday, except Federal holidays. The telephone number is (510) 437-3515. Commander (dpw), Eleventh Coast Guard District, maintains the public docket for this temporary deviation.

FOR FURTHER INFORMATION CONTACT: David H. Sulouff, Chief, Bridge Section, Eleventh Coast Guard District, telephone (510) 437-3516.

SUPPLEMENTARY INFORMATION: The California Department of Transportation has requested to temporarily change the operating procedures for the CA-160 Highway Drawbridge, mile 18.7, Sacramento River, at Isleton, CA, to allow single leaf operation, with a 12-hour advance notice to the Rio Vista Drawbridge, from 7 a.m. January 9, 2006 through 6 p.m. on February 17, 2006, to repair essential operating machinery. The drawbridge provides unlimited vertical clearance in the full open-to-navigation position, and 15 ft. vertical clearance above Mean High Water when closed. As required by 33 CFR 117.189, the drawbridge opens on signal from approaching vessels from 6 a.m. to 10 p.m. May 1 through October 31 and from 9 a.m. to 5 p.m. November 1 through April 30. At all other times the draw shall open if at least 4-hours advance notice is given.

Numerous waterway users were consulted prior to the determination. It was determined that potential navigational impacts will be reduced if the repairs are performed November through March when there is less recreational boating traffic. The Coast Guard approved the deviation effective from 7 a.m. January 9, 2006 through 6 p.m. on February 17, 2006.

During these times, single leaf operation of the drawspan will be permitted, with a 12-hour advance notice.

The drawspan shall resume normal operation at the conclusion of the essential repair work. Mariners should contact the Rio Vista Drawbridge on VHF-FM Channel 16 or by telephone at (707) 374-2134, in advance, to determine conditions at the bridge and to make passing arrangements.

In the event of an emergency, the bridge owner would require 15-hour advance notice to open both leaves of the bridge. Vessels that can safely pass through the closed drawbridge may continue to do so at any time.

In accordance with 33 CFR 117.35(c), this work shall be performed with all due speed to return the drawbridge to normal operation as soon as possible. This deviation from the operating regulations is approved under the provisions of 33 CFR 117.35.

Dated: November 22, 2005.
Kevin J. Eldridge,
Rear Admiral, U. S. Coast Guard, Commander, Eleventh Coast Guard District.

[FR Doc. 05-23889 Filed 12-9-05; 8:45 am]

BILLING CODE 4910-15-P